DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the “Annual Survey of Alternative Fueled Vehicles” to the Office of Management and Budget (OMB) for a three-year extension under section 3507(h)(1) of the Paperwork Reduction Act of 1995 (Pub. L. 104-13) (44 U.S.C. 3501 et seq., at 3507(h)(1)).

DATES: Comments must be filed by October 19, 2007. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by Fax at 202-395-7285 or e-mail to Nathan_J._Frey@omb.eop.gov is recommended. The mailing address is 726 Jackson Place, NW., Washington, DC 20503. The OMB DOE Desk Officer may be telephoned at (202) 395-7345. (A copy of your comments should also be provided to EIA's Statistics and Methods Group at the address below.)

FOR FURTHER INFORMATION CONTACT: Requests for additional information should be directed to Grace Sutherland. To ensure receipt of the comments by the due date, submission by FAX (202-586-5271) or e-mail (grace.sutherland@eia.doe.gov) is also recommended. The mailing address is Statistics and Methods Group (EI-70), Forrestal Building, U.S. Department of Energy, Washington, DC 20585-0670. Ms. Sutherland may be contacted by telephone at (202) 586-6264.

SUPPLEMENTARY INFORMATION: This section contains the following information about the energy information collection submitted to OMB for review: (1) The collection numbers and title; (2) the sponsor (i.e., the Department of Energy component; (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Forms EIA-886, “Annual Survey of Alternative Fueled Vehicles”

2. Energy Information Administration

3. OMB Number 1905-0191

4. Three-year extension of a currently approved collection

5. Mandatory

6. EIA's “Annual Survey of Alternative Fueled Vehicle Suppliers and Users” collects basic data necessary to meet EIA's legislative mandates as well as the needs of EIA's public and private customers. Data collected include the number and type of Alternative Fueled Vehicles (AFVs) that vehicle suppliers made available in the previous calendar year and plan to make available in the following calendar year; the number, type and geographic distribution of AFVs in use in the previous calendar year; and the amount and distribution of each type of Alternative Transportation Fuel (ATF) consumed in the previous calendar year. The data are used for analyses and publications.

7. Federal, State and Local governments; fuel providers; Original Equipment Manufacturers; and Conversion facilities.

8. 10,812.50 hours

Statutory Authority: Section 3507(h)(1) of the Paperwork Reduction Act of 1995 (Pub. L. No. 104-13) (44 U.S.C. 3501 et seq.).

Issued in Washington, DC, September 13, 2007.
Jay H. Casselberry,
Agency Clearance Officer, Energy Information Administration.

[FR Doc. E7-18421 Filed 9-18-07; 8:45 am]

BILLING CODE 6450-01-P